GENERAL SERVICES ADMINISTRATION

[OMB Control No. 3090-XXXX; Docket No. 2024-0001; Sequence No. 2]

Information Collection; Actual Place of Residence Determination (GSA Form 5047)

AGENCY: Office of Human Resource Management, Division of Human Capital Policy and Programs, General Services Administration (GSA).

ACTION: Notice of request for comments regarding a request for a new OMB clearance.

SUMMARY: Under the provisions of the Paperwork Reduction Act, the Regulatory Secretariat Division will be submitting to the Office of Management and Budget (OMB) a request to review and approve a new information collection requirement.

DATES: Submit comments on or before April 22, 2024.

ADDRESSES: Submit comments identified by Information Collection 3090-XXXX; “Actual Place of Residence Determination (GSA Form 5047)” to: https://www.regulations.gov. Submit comments via the Federal eRulemaking portal by searching for “Information Collection 3090-XXXX; “Actual Place of Residence Determination (GSA Form 5047).” Select the link “Submit a Comment” that corresponds with “Information Collection 3090-XXXX; Actual Place of Residence Determination (GSA Form 5047).” Follow the instructions provided at the “Submit a Comment” screen. Please include your name, company name (if any), and “Information Collection 3090-XXXX; Actual Place of Residence Determination (GSA Form 5047)” on your attached document. If your comment cannot be submitted using https://www.regulations.gov, call or email the points of contact in the FOR FURTHER INFORMATION CONTACT section of this document for alternate instructions.

Instructions: Please submit comments only and cite “Information Collection 3090-XXXX; Actual Place of Residence Determination (GSA Form 5047),” in all correspondence related to this collection. Comments received generally will be posted without change to https://www.regulations.gov, including any personal and/or business confidential information provided. To confirm receipt of your comment(s), please check www.regulations.gov, approximately two-to-three days after submission to verify posting.

FOR FURTHER INFORMATION CONTACT: Colin C. Bennett, Human Resources Specialist, Office of Human Resources Management, Division of Human Capital Policy and Programs, at telephone 240-418-6822 or via email to colin.bennett@gsa.gov for clarification of content.

SUPPLEMENTARY INFORMATION:

A. Purpose

The General Services Administration (GSA) routinely hires, reassigns, promotes and transfers Federal employees to duty stations in foreign areas (i.e., locations outside of the United States, its territories and possessions). For this staffing activity, GSA pays for the cost of relocation, known as “permanent change of station” relocation benefits (see further 5 U.S.C. 5722(a) and 5724(d)). Relocation benefits include the cost of travel and transportation, as well as the cost of shipment of household goods to a new post outside of the Continental United States. In addition, most overseas employees are eligible for “renewal agreement travel,” a travel reimbursement authority that allows agency to leverage funds to pay for periodic travel back to the United States between overseas tours of duty for paid time off, known as “home leave” (see further, 5 U.S.C. 5728(a) and 5 U.S.C. 6305(a)).

For an agency to calculate the costs of relocation as well as renewal agreement travel, both federal travel laws require that the employee (or appointee) designate an “actual place of residence.” When such residence cannot be easily determined by the job candidate, the agency must instead make an administrative residency determination on behalf of the employee. The new GSA Form 5047 will help agency representatives (i.e. human resources specialists) make a determination of the actual place of residence based upon documents and input provided by the job candidates, considered members of the public.

Typically, agencies use the definition of “residence” from the Immigration and Naturalization Act of 1952, codified at 5 U.S.C. 1101(33), which defines “residence” as a “place of general abode” or the “principal, actual dwelling place in fact, without regard to intent.” While for most employees (or appointees) the determination of an actual place of residence in the U.S. is typically straightforward, residency may be unclear if the appointee is already overseas and has been overseas for a long period of time. Long-term posts overseas are often characterized by the lease (or even sale) of the employee's primary U.S. dwelling, changes in the declared U.S. voting registration location, and/or changes in the state and local income or property tax jurisdictions.

To more effectively administer permanent change of station relocation as well as renewal agreement travel, the General Services Administration (GSA) has created a new agency form, GSA Form 5047, Actual Place of Residence Determination. This form will allow employees, job candidates, and the agency's human resources specialists, to more easily determine the actual place of residence by working through a series of guided questions on the form's worksheet. Following completion of the form's worksheet, the employee, candidate, and human resources specialist can summarize the determination on the form's front cover sheet.

The questions on the worksheet portion of the form are drawn from governing administrative law authorities, primary Comptroller General decisions such as: Rafael Arroyo, decision B-197205 (May 16, 1980), decision B-157548 (Sept. 13, 1965), 45 Comp. Gen. 136, and decision B-140748 (Oct. 29, 1959), 39 Comp. Gen. 337. Under these administrative law authorities, the place of actual residence is established at the time of appointment or transfer (see also decision B-136029, June 24, 1958, 37 Comp. Gen. 846). Use of this form is therefore recommended for all overseas appointments, transfers or reassignments and, in particular, those personnel selections of job candidates via agency transfer employed by a different U.S. Government agency and already present overseas.

Use of this form will allow GSA to comply with the Federal Travel Regulations, which require the administrative determination and documentation of the actual place of residence for all overseas appointments or placements (see further 41 CFR 302-3.509). In addition, this form will also allow the agency to leverage the renewal agreement travel authority (i.e., the Home Leave Act of 1954, 68 Stat. 1008) only when appropriate and not in the rare cases of local foreign hires who have severed all jurisdictional nexuses with the U.S.

Significantly, this residency determination form can also be used to determine eligibility for the following other overseas allowance and benefit authorities: (a) the 45-day annual leave accrual authority (5 U.S.C. 6304(b)), (b) home leave (5 U.S.C. 6305(a)) and (c) living quarters allowance (5 U.S.C. 5923(a)(2)). Under each of these authorities, local hires who currently live in foreign areas are excluded from benefits eligibility unless they can demonstrate that foreign residence is temporary, is only pursuant to continuous employment overseas with the U.S. Government (or other U.S. interest), and finally, there exists a contractual transportation agreement that provides for the eventual return of the job candidate to a specifically-identified place of actual residence within the U.S.

B. Annual Reporting Burden

Respondents: 25 per year.

Responses per Respondent: 1.

Total Annual Responses: 25.

Hours per Response: 1.

Total Burden Hours: 25.

C. Public Comments

Public comments are encouraged, and are particularly invited, on: (a) whether this collection of information is necessary, (b) whether it will have practical utility, (c) whether our estimate of the public burden of this collection of information is accurate (and based on valid assumptions and methodology), (d) whether or not there are ways to enhance the new form's utility and clarity of the information to be collected, and (e) whether or not there might be ways in to minimize the data collection burden through the use of information technology.

Obtaining Copies of Proposals: We have provided a copy of the proposed draft GSA Form 5047 at the end of this notice below the signature block. A copy of the proposed draft form can alternatively be obtained through GSA's Regulatory Secretariat Division by calling (202) 501-4755 or emailing GSARegSec@gsa.gov. Please cite OMB Control No. 3090-XXXX, Actual Place of Residency Determination (GSA Form 5047), in all correspondence.

Lois Mandell,
Director, Regulatory Secretariat Division, General Services Administration.

BILLING CODE 6820-FM-P

[FR Doc. 2024-03606 Filed 2-21-24; 8:45 am]

BILLING CODE 6820-FM-C